DEPARTMENT OF AGRICULTURE

Natural Resources Conservation Service

Rehabilitation of Aging Flood Control Dams, Oklahoma

AGENCY: Natural Resources Conservation Service.

ACTION: Notice of intent to prepare an Environmental Impact Statement.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is being prepared for the rehabilitation of aging flood control dams in Oklahoma.

FOR FURTHER INFORMATION CONTACT: M. Darrel Dominick, State Conservationist, Natural Resources Conservation Service, 100 USDA Suite 206, Stillwater, Oklahoma 74074, (405) 742-1204.

SUPPLEMENTARY INFORMATION: The environmental assessment of this federally assisted action indicates that the project may cause significant local, regional, or national impacts on the environment. As a result of these findings, M. Darrel Dominick, State Conservationist has determined that the preparation and review of an environmental impact statement is needed for this project.

The project concerns watershed protection and flood prevention. Alternatives under consideration to reach these objectives include rehabilitation, no action, nonstructural measures, and decommissioning.

A draft environmental impact statement will be prepared and circulated for review by agencies and the public. The Natural Resources Conservation Service invites participation and consultation of agencies and individuals that have special expertise, legal jurisdiction, or interest in the preparation of the draft environmental impact statement. Meetings will be held at 1:00 p.m. on May 1, 2, and 3, 2001, at the following locations: Tuesday, May 1, 2001, at the Fairgrounds Building in Clinton, Oklahoma; Wednesday, May 2, 2001, at the Fairgrounds Community Building in Stillwater, Oklahoma; and Thursday, May 3, 2001, at the Pontotoc Technology Center in Ada, Oklahoma, to determine the scope of the evaluation of the proposed action. Further information on the proposed action or the scoping meetings may be obtained from M. Darrel Dominick, State Conservationist, at the above address or telephone number.

(This activity is listed in the Catalog of Federal Domestic Assistance under No. 10.904—Watershed Protection and Flood Prevention—and is subject to the provisions of Executive Order 12372, which requires intergovernmental consultation with State and local officials.)
Dated: March 26, 2001.
M. Darrel Dominick,
State Conservationist, Oklahoma.

[FR Doc. 01-9404 Filed 4-16-01; 8:45 am]

BILLING CODE 4310-16-U